DEPARTMENT OF DEFENSE

Department of the Army; Corps of Engineers

Availability of Draft Environmental Impact Statement for Center Hill Dam and Lake, Changes to Center Hill Lake Elevations, DeKalb County, TN

AGENCY: Department of the Army, U.S. Army Corps of Engineers, DoD.

ACTION: Notice of availability.

SUMMARY: The Corps of Engineers, Nashville District, U.S. Fish and Wildlife Service (Cooperating Agency), and the Tennessee Valley Authority (Cooperating Agency) have prepared a Draft Environmental Impact Statement (DEIS). The DEIS is necessary to provide National Environmental Policy Act (NEPA) compliance to address changes that could include, but are not limited to water quality, aquatic, riparian, and terrestrial habitat, recreation, water supply, flood storage, economics, hydropower production, and safety as a result of operating Center Hill Lake significantly below normal pool elevations for extended periods of time.

DATES: Written comments must be received by the Corps of Engineers on or before October 19, 2007.

ADDRESSES: Written comments on issues to be considered in the DEIS shall be mailed to: Joy Broach or Patty Coffey, Project Planning Branch, Nashville District Corps of Engineers, P.O. Box 1070 (PM-P), Nashville, TN 37202-1070.

FOR FURTHER INFORMATION CONTACT: For additional information concerning the notice, please contact Joy Broach, Environmental Team, (615) 736-7956, or Patty Coffey, Environmental Team, (615) 736-7865.

SUPPLEMENTARY INFORMATION: 1. Center Hill Dam is currently suffering from severe dam seepage problems. A comprehensive plan for repairs has been approved; however, these repairs will take 7-10 years to implement. Until the repairs are sufficiently complete, the Corps has determined that it is in the public's interest to operate Center Hill Lake at lower pool elevations.

2. The U.S. Fish and Wildlife Service is a Cooperating Agency because of the potential to affect listed species. The Tennessee Valley Authority is a Cooperating Agency because of the potential to affect electrical power production.

3. This notice serves to solicit comments from the public; Federal, state, and local agencies and officials; Indian tribes; and other interested parties in order to consider and evaluate the impacts of this proposed activity. Any comments received by us will be considered during the preparation of the Final Environmental Impact Statement (FEIS).

4. Public Meetings: At present, no public meetings have been scheduled to scope for potential issues to be evaluated in the FEIS. Requests for public meetings should be directed to Mr. William Peoples, Chief, Public Affairs Office, U.S. Army Corps of Engineers, Nashville District, Nashville, TN, 37202-1070. Mr. Peoples may be reached by telephone at (615) 736-7834.

Brenda S. Bowen,
Army Federal Register Liaison Officer.

[FR Doc. 07-4277 Filed 8-30-07; 8:45 am]

BILLING CODE 3710-GF-M